DEPARTMENT OF STATE

[Public Notice 5628]

Shipping Coordinating Committee; Notice of Meeting

The Shipping Coordinating Committee (SHC) will conduct an open meeting at 10 a.m. on Tuesday, January 23, 2007 in room 6319 of the U.S. Coast Guard Headquarters building, 2100 Second Street, SW., Washington, DC, 20593-0001. The primary purpose of the meeting is to prepare for the 51st Session of the International Maritime Organization (IMO) Subcommittee on Fire Protection to be held at the Royal Horticultural Halls and Conference Center in London, UK from February 5-9, 2007.

Discussion will focus on papers received and draft U.S. positions regarding:

—Performance testing & approval standards for fire safety systems;

—Comprehensive review of the Fire Test Procedures Code;

—Recommendations on evacuation analysis for new and existing passenger ships;

—Review of the SPS Code;

—Development of provisions for gas fueled ships;

—Measures to prevent fires in engine-rooms and cargo pump-rooms;

—Consideration of IACS unified interpretations;

—Analysis of fire casualty records;

—Fire resistance of ventilation ducts;

—Application of requirements for dangerous goods in SOLAS and the 2000 HSC Code;

—Unified interpretation on the number and arrangement of portable extinguishers;

—Review of the fire safety of external areas on passenger ships; and

—Performance standards for fixed water spraying, fire detection and fire alarm systems for cabin balconies.

Members of the public may attend this meeting up to the seating capacity of the room. Interested persons may seek information by writing: Chief, Lifesaving and Fire Safety Standards Division, Commandant (CG-3PSE-4), U.S. Coast Guard Headquarters, Room 1308, 2100 Second Street, SW., Washington, DC 20593-0001, by calling: Mr. R. Eberly at (202) 372 -1393, or by e-mail at Randall.Eberly@uscg.mil.

Dated: December 18, 2006.
Michael Tousley,
Executive Secretary, Shipping Coordinating Committee, Department of State.

[FR Doc. E6-22167 Filed 12-26-06; 8:45 am]

BILLING CODE 4710-09-P